DEPARTMENT OF JUSTICE

Notice of Lodging of Proposed Consent Decree Under the Clean Water Act

On September 30, 2016, the Department of Justice lodged a proposed Consent Decree with the United States District Court for the Western District of Virginia in the lawsuit entitled United States, et al. v. Southern Coal Corporation, et al., Civil Action No. 7:16-cv-00462-GEC.

The United States' Complaint (which was joined by Alabama, Kentucky, Tennessee, and Virginia) alleges, inter alia, that Southern Coal Corporation and twenty-six other related companies violated the Clean Water Act by failing to comply with effluent limitations in their permits, failing to report results for all the required sampling data, failing to submit complete data in quarterly discharge monitoring reports, and failing to submit quarterly discharge monitoring reports.

The principal elements of the injunctive relief in the decree include an Environmental Management System; audits of mining operations, outfalls and treatment systems; a violation response procedure; a new compliance tracking database; training for its employees and contractors; and the establishment and maintenance of a publicly available Web site or portal that provides permit and violation information to the general public. Defendants must also establish a $4.5 million letter of credit and a standby trust that will guarantee funding for, and a mechanism to accomplish, compliance with the Clean Water Act and the work required by the settlement, should the companies fail to do so. Finally, Defendants must pay a civil penalty of $900,000.

The publication of this notice opens a period for public comment on the Consent Decree. Comments should be addressed to the Assistant Attorney General, Environment and Natural Resources Division, and should refer to United States, et al. v. Southern Coal Corporation, et al., D.J. Ref. No. 90-5-1-1-10974. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Decree upon written request and payment of reproduction costs. Please mail your request and payment to: Consent Decree Library, U.S. DOJ—ENRD, P.O. Box 7611, Washington, DC 20044-7611.

Please enclose a check or money order for $27.50 for the Consent Decree and Appendices A-E, and a check for $183.75 for Appendix F (735-page table of violations), if this appendix is desired, (25 cents per page reproduction cost) payable to the United States Treasury.

Henry S. Friedman,
Assistant Section Chief, Environmental Enforcement Section, Environment and Natural Resources Division.

[FR Doc. 2016-24306 Filed 10-6-16; 8:45 am]

BILLING CODE 4410-15-P